DEPARTMENT OF COMMERCE

National Oceanic and Atmospheric Administration

[RTID 0648-XD976]

Advisory Committee Open Session on Management Strategy Evaluation for North Atlantic Swordfish

AGENCY: National Marine Fisheries Service (NMFS), National Oceanic and Atmospheric Administration (NOAA), Commerce.

ACTION: Notice of meeting.

SUMMARY: The Advisory Committee to the U.S. Section to the International Commission for the Conservation of Atlantic Tunas (ICCAT), supported by NMFS, is holding a public meeting via webinar session to receive an update and provide input on the development of a management strategy evaluation (MSE) for North Atlantic swordfish. The meeting is open to all interested stakeholders.

DATES: A virtual meeting that is open to the public will be held by webinar session on June 13, 2024, from 10 a.m. to 12 p.m. EDT.

ADDRESSES: Please register to attend the meeting at: https://forms.gle/jHqbXe8223HvXtxD6. Registration will close on June 11, 2024, at 5 p.m. EDT. Instructions for accessing the webinar session will be emailed to registered participants.

FOR FURTHER INFORMATION CONTACT: Bryan Keller, Office of International Affairs, Trade, and Commerce, at (301) 427-7725 or Bryan.Keller@noaa.gov.

SUPPLEMENTARY INFORMATION: MSE is a process that allows fishery managers and stakeholders (e.g., industry, scientists, and non-governmental organizations) to assess how well different strategies achieve specified management objectives for a fishery. In 2023, ICCAT extended the North Atlantic swordfish management measure through 2024. ICCAT expects to finalize its North Atlantic swordfish MSE and adopt a management procedure in November 2024 to set the total allowable catch (TAC) for 2025 and future years for the stock. NMFS, and the U.S. Government more broadly, has been fully engaged in the MSE development process, an important part of which involves considering stakeholder input, including through periodic consultations with the Advisory Committee to the U.S. section to ICCAT. The United States is also participating in the development of the North Atlantic swordfish MSE through the active involvement of U.S. scientists in the work carried out by ICCAT's Standing Committee on Research and Statistics (SCRS).

The June 13 meeting is primarily informational in nature. It is intended to update U.S. stakeholders on the progress of the North Atlantic swordfish MSE process and increase awareness and understanding of that process. NMFS will provide information on the progress of the SCRS in developing initial candidate management procedures (CMPs) and testing them based on the input provided to-date by ICCAT's Panel 4 on management objectives and other relevant matters. CMPs illustrate tradeoffs associated with achieving identified management objectives related to stock status, stock safety, yield, and TAC stability over time. CMP testing assists ICCAT in refining management objectives and narrowing the number of viable CMPs for possible adoption by the Commission.

There will also be an opportunity for the Advisory Committee and other stakeholders to provide input to NMFS on the North Atlantic swordfish MSE. Such input helps inform U.S. scientists who are participating in the MSE work of the SCRS as well as U.S. managers participating in North Atlantic swordfish MSE meetings at the Commission level later in 2024.

Authority: 16 U.S.C. 971 et seq.; 16 U.S.C. 1801 et seq.

Dated: May 20, 2024.
Alexa Cole,
Director, Office of International Affairs, Trade, and Commerce, National Marine Fisheries Service.

[FR Doc. 2024-11417 Filed 5-23-24; 8:45 am]

BILLING CODE 3510-22-P